Title 3—

The President

Proclamation 8398 of July 24, 2009

Anniversary of the Americans with Disabilities Act, 2009

By the President of the United States of America

A Proclamation

Today we celebrate the 19th anniversary of the enactment of the historic Americans with Disabilities Act (ADA). Signed into law on July 26, 1990, this landmark legislation established a clear mandate against discrimination on the basis of disability so that people with disabilities would have an equal opportunity to achieve the American Dream.

Our Nation is once again poised to make history for people with disabilities. I am proud to announce that the United States will sign the United Nations Convention on the Rights of Persons with Disabilities, adopted by the United Nations General Assembly in New York on December 13, 2006. The Convention is the first new human rights convention of the 21st century adopted by the United Nations, and it represents a paradigm shift in protecting the human rights of 650 million people with disabilities worldwide. We proudly join the international community in further advancing the rights of people with disabilities.

As we reflect upon the past and look toward a brighter future, we recognize that our country has made great progress. More than ever before, Americans with disabilities enjoy greater access to technology and economic self-sufficiency. More communities are accessible, more children with disabilities learn alongside their peers, and more employers recognize the capabilities of people with disabilities.

Despite these achievements, much work remains to be done. People with disabilities far too often lack the choice to live in communities of their choosing; their unemployment rate is much higher than those without disabilities; they are much likelier to live in poverty; health care is out of reach for too many; and too many children with disabilities are denied a world-class education.

My Administration has met these challenges head-on. We have launched the “Year of Community Living” to help people with disabilities live wherever they choose. We have nearly doubled the funding for the Individuals with Disabilities Education Act. I was proud to sign the groundbreaking Christopher and Dana Reeve Paralysis Act and the Children’s Health Insurance Reauthorization Act, which provides health insurance to millions of additional children. I also lifted the ban on stem cell research. These measures demonstrate our commitment to leveling the playing field for every person with a disability. My Administration will not rest on these accomplishments, and we will continue to focus on improving the lives of people with disabilities. I encourage States, localities, and communities across the country to cultivate an environment in which the 54 million Americans living with a disability are valued and respected.

Americans have repeatedly affirmed the importance of protecting the human rights and dignity of every member of this great country. Through the steps we have taken, we will continue to build on the ADA and demonstrate our ongoing commitment to promoting, protecting, and ensuring the full enjoyment of all human rights and fundamental freedoms by people with disabilities.

NOW, THEREFORE, I, BARACK OBAMA, President of the United States of America, by virtue of the authority vested in me by the Constitution and laws of the United States, do hereby proclaim July 26, 2009, as the Anniversary of the Americans with Disabilities Act. I call on Americans across our country to celebrate the progress we have made in protecting the civil rights of people with disabilities and to recognize the step forward we make with the signing of the United Nations Convention on the Rights of Persons with Disabilities. Inspired by the advances of the last 19 years, let us commit to greater achievements in the years ahead.

IN WITNESS WHEREOF, I have hereunto set my hand this twenty-fourth day of July, in the year of our Lord two thousand nine, and of the Independence of the United States of America the two hundred and thirty-fourth.

[FR Doc. E9-18280

Filed 7-28-09; 11:15 am]

Billing code 3195-W9-P